DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NHSC).

Date And Time: October 23, 2014 from 1:00 p.m.-2:30 p.m. EST.

Place: The meeting will be via audio conference call.

Status: The meeting will be open to the public.

Agenda: The Council is holding a meeting via conference call to discuss the accomplishments of the NHSC in fiscal year (FY) 2014 and activities and goals for FY 2015. The public can join the meeting via audio conference call on the date and time specified above using the following information: Dial-in number: 1-800-619-8528; Passcode: 2240736.

Public Comment: There will be an opportunity for the public to comment towards the end of the call.

For Further Information Contact: Ed Mekeel, Bureau of Health Workforce, Health Resources and Services Administration, Parklawn Building, Room 13-64, 5600 Fishers Lane, Rockville, Maryland 20857, email: emekeel@hrsa.gov, or telephone: 301-443-6156.

Dated: September 23, 2014.
Jackie Painter,
Acting Director, Division of Policy and Information Coordination.

[FR Doc. 2014-23178 Filed 9-29-14; 8:45 am]

BILLING CODE 4165-15-P